DEPARTMENT OF HEALTH AND HUMAN SERVICES

Indian Health Service

Medical Professionals Recruitment and Continuing Education Programs

Announcement Type: New Limited Competition Cooperative Agreement.

Funding Announcement Number: HHS-2013-IHS-HPR-0001.

Catalog of Federal Domestic Assistance Number: 93.970.

Key Dates

Application Deadline Date: April 30, 2013.

Review Date: May 13, 2013.

Earliest Anticipated Start Date: May 30, 2013.

Proof of Non-Profit Status Due Date: April 30, 2013.

I. Funding Opportunity Description

Statutory Authority

The Indian Health Service (IHS) Office of Clinical and Preventive Services (OCPS) is accepting competitive cooperative agreement applications for support for medical professionals' recruitment and continuing education programs. This program is authorized under the Snyder Act, 25 U.S.C. 13. This program is described in the Catalog of Federal Domestic Assistance under 93.970.

Background

The mission of the IHS is to raise the physical, mental, social, and spiritual health of American Indians and Alaska Natives (AI/AN) to the highest level. The IHS, an agency within the Department of Health and Human Services (HHS), is responsible for providing Federal health services to AI/AN. The provision of health services to members of Federally-recognized Tribes grew out of the special government-to-government relationship between the Federal Government and Indian Tribes. The IHS is the principal Federal health care provider and health advocate for Indian people and its mission is to raise their health status to the highest possible level. The IHS provides a comprehensive health service delivery system for approximately 1.9 million AI/AN who belong to 566 Federally recognized Tribes in 35 states.

Purpose

The purpose of this IHS cooperative agreement is to enhance medical professional recruitment and continuing education programs, services and activities for AI/AN people. The agency wants to facilitate continuing medical education for AI/AN physicians through annual meetings and other venues that are culturally competent and sensitive. Another purpose is to recruit AI/AN health professionals to pursue jobs that serve AI/AN people and improve the health care delivery system. A third purpose is to provide opportunities for AI/AN youth to learn about the various Federal agencies and possible careers within the Federal Government that will result in a national mentoring program and creation of a pipeline for AI/AN youth into health careers. These activities should result in more AI/AN youth pursuing careers in the health professions thereby increasing the number of AI/AN medical professionals in the workforce.

Limited Competition Justification

Competition is limited to organizations with expertise in advancing the health of AI/AN people. This limitation is necessary in order for IHS to ensure that the training, education, and outreach provided through this award are provided in a culturally competent manner. Additionally, applicants must have experience hosting healthcare forums and meetings combining modern medicine and traditional healing practices to enhance health care delivery to AI/AN communities. Through such experience, applicants should have existing relationships with stakeholders that will encourage attendance at the meeting funded through this award. Applicants must offer educational programs, services and activities specifically tailored to motivating AI/AN students to remain in the academic pipeline and to pursue a career in the health professions and/or biomedical research. Finally, applicants must have experience in providing leadership and programs in various care arenas affecting AI/AN, such as diabetes mellitus, human immunodeficiency virus/acquired immunodeficiency syndrome (HIV/AIDS), domestic violence and methamphetamine use, in order to address the most pressing healthcare needs of AI/AN communities.

II. Award Information

Type of Award

Cooperative Agreement.

Estimated Funds Available

The total amount of funding identified for the current fiscal year, FY 2013, is approximately $25,000. The award is for three years with $25,000 available for each year for a total funding amount of $75,000 for the three-year project period. All competing and continuation awards issued under this announcement are subject to the availability of funds. In the absence of funding, the IHS is under no obligation to make any awards selected for funding under this announcement.

Anticipated Number of Awards

One limited competition award will be issued under this program announcement.

Project Period

The project period will be for 3 years from March 1, 2013 to February 29, 2016.

Cooperative Agreement

In HHS, a cooperative agreement is administered under the same policies as a grant. The funding agency (IHS) is required to have substantial programmatic involvement in the project during the entire award segment. Below is a detailed description of the level of involvement required for both IHS and the grantee. IHS will be responsible for activities listed under section A and the grantee will be responsible for activities listed under section B as stated:

Substantial Involvement Description for Cooperative Agreement

A. IHS Programmatic Involvement

(1) The IHS would like to support an annual meeting of AI/AN physicians and other health professionals. At least two IHS staff will be part of the planning committee for any meetings or training. They will work closely with the planning staff on all aspects of the meeting and training including development of the agenda, keynote speakers, and special educational sessions, etc. The IHS staff is familiar with AI/AN physicians and other health professionals throughout Indian country. The IHS will also provide links to the applicant's Web site from the IHS Web site.

(2) IHS staff will also participate in any Federal meetings within the HHS and AI/AN youth to help facilitate information about the various agencies and to encourage youth to consider careers within HHS. This will help youth be more knowledgeable about Federal programs and resources available to AI/AN communities.

(3) IHS Clinical Support Center (CSC) will provide a process for offering continuing education (CE) credits for the annual meeting participants. The CSC is accredited as a sponsor of CE by various medical professional organizations.

(4) IHS Division of Health Professions Support will share information on recruitment strategies and current program information with applicant's staff and members. This sharing and dialogue will enhance communication and improve efforts to reach out to more AI/AN physicians and medical professionals.

B. Grantee Cooperative Agreement Award Activities

(1) Overall coordination and management of the annual meeting of AI/AN physicians and other health professionals including hosting the planning committee and setting up conference calls and meetings in preparation of the annual meeting.

(2) Manage registration and logistics for annual meeting.

(3) Distribute flyers and brochures to promote the annual meeting.

(4) Finalize the agenda and all materials.

(5) Provide meeting information on applicant's Web site with links to IHS Web site.

(6) Develop a mentoring program for AI/AN youth and young adults. This mentoring program will help support youth that are interested in pursuing a career in the medical professions.

(7) Provide opportunities for AI/AN youth to learn more about Federal programs and resources available especially for educational opportunities in the field of medicine. This effort will result in a more informed youth population that better understands the relationships between the Federal and Tribal governments.

III. Eligibility Information

1. Eligibility

This funding opportunity is limited to 501(c)(3) non-profit organizations. Proof of 501(c)(3) status must be provided. In addition, applicant organizations must meet the following criteria:

• Have as a core goal improving the health of AI/AN.

• Be committed to pursuing excellence in Native American health care by promoting education in the medical disciplines, honoring traditional healing principles and restoring the balance of mind, body and spirit.

• Offer educational programs, services and activities that motivate AI/AN students to remain in the academic pipeline and to pursue a career in the health professions and/or biomedical research.

• Foster forums where modern medicine combines with traditional healing to enhance health care delivery to AI/AN communities.

• Provide leadership in various care arenas affecting AI/AN such as diabetes mellitus, HIV/AIDS, domestic violence and methamphetamine use.

Note: Please refer to Section IV.2 (Application and Submission Information/Subsection 2, Content and Form of Application Submission) for additional poof of applicant status documents required such as Tribal resolutions, proof of non-profit status, etc.

2. Cost Sharing or Matching

The IHS does not require matching funds or cost sharing for grants or cooperative agreements.

3. Other Requirements

If application budgets exceed the highest dollar amount outlined under the “Estimated Funds Available” section within this funding announcement, the application will be considered ineligible and will not be reviewed for further consideration. If deemed ineligible, IHS will not return the application. The applicant will be notified by email by the Division of Grants Management (DGM) of this decision.

Proof of Non-Profit Status

Organizations claiming non-profit status must submit proof. A copy of the 501(c)(3) Certificate must be received with your application submission by the Application Deadline Date listed under the Key Dates section on page one of this announcement.

Applicants submitting any of the above additional documentation after the initial application submission due date are required to ensure the information was received by the IHS by obtaining documentation confirming delivery (i.e. FedEx tracking, postal return receipt, etc.).

IV. Application and Submission Information

1. Obtaining Application Materials

The application package and detailed instructions for this announcement can be found at http://www.Grants.gov or http://www.ihs.gov/NonMedicalPrograms/gogp/index.cfm?module=gogp_funding. Questions regarding the electronic application process may be directed to Paul Gettys at (301) 443-2114.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single-spaced and not exceed five pages).

• Project Narrative (must not exceed ten pages).

○ Background information on the organization.

○ Proposed scope of work, objectives, and activities that provide a description of what will be accomplished, including a one-page Timeframe Chart.

• Disclosure of Lobbying Activities (SF-LLL).

• Certification Regarding Lobbying (GG-LobbyingForm).

• Copy of current Negotiated Indirect Cost rate (IDC) agreement (required) in order to receive IDC.

• Documentation of current OMB A-133 required Financial Audit (if applicable).

Acceptable forms of documentation include:

○ Email confirmation from Federal Audit Clearinghouse (FAC) that audits were submitted; or

○ Face sheets from audit reports. These can be found on the FAC Web site: http://harvester.census.gov/sac/dissem/accessoptions.html?submit=Go+To+Database.

Public Policy Requirements

All Federal-wide public policies apply to IHS grants with exception of the Discrimination policy.

Requirements for Project and Budget Narratives

A. Project Narrative: This narrative should be a separate Word document that is no longer than ten pages and must: Be single-spaced, be type written, have consecutively numbered pages, use black type not smaller than 12 characters per one inch, and be printed on one side only of standard size 8-½″ x 11″ paper.

Be sure to succinctly answer all questions listed under the evaluation criteria (refer to Section V.1, Evaluation criteria in this announcement) and place all responses and required information in the correct section (noted below), or they will not be considered or scored. These narratives will assist the Objective Review Committee (ORC) in becoming more familiar with the grantee's activities and accomplishments prior to this possible grant award. If the narrative exceeds the page limit, only the first ten pages will be reviewed. The 10-page limit for the narrative does not include the work plan, standard forms, table of contents, budget, budget justifications, narratives, and/or other appendix items.

There are three parts to the narrative: Part A—Program Information; Part B—Program Planning and Evaluation; and Part C—Program Report. See below for additional details about what must be included in the narrative.

Part A: Program Information (3 Page Limitation)

Section 1: Needs

Describe the applicant's organizational commitment and administrative infrastructure to support this agreement. Explain previous planning activities for any conferences, annual meetings and other forums or programs for AI/AN physicians and other health professionals. Describe the relationship with the IHS and the capacity to support this work.

Part B: Program Planning and Evaluation (3 Page Limitation)

Section 1: Program Plans

Describe any conferences, annual meetings and other forums or program plans for AI/AN physicians and health professionals in clear detail including the proposed timelines and activities. The purpose of the meeting would be to provide continuing education for physicians and other health professionals on topics to improve the health of AI/AN patients, families and communities. Describe the anticipated impact of the meeting as it relates to improving the health services for AI/AN. In addition, describe plans to develop a mentoring program and pipeline for recruiting more AI/AN youth into the medical professions. Describe the target audience and goals of such programs to increase the number of AI/ANs physicians and health care professionals providing health services to the Native American population.

Section 2: Program Evaluation

Describe fully and clearly the plans for evaluating the impact of an annual meeting of AI/AN physicians and other health care professionals with anticipated results. Describe the plans for mentoring programs and preparing more AI/AN youth to enter the medical professionals in the workforce.

Part C: Program Report (3 Page Limitation)

Section 1: Describe major Accomplishments over the last 24 months.

Describe major accomplishments by the applicant over the last 24 months as it relates to recruiting more AI/AN youth into the medical professions and continuing to provide continuing education opportunities (meetings, conferences) for AI/AN physicians and other medical professionals.

Please identify and describe significant program achievements associated with improving the health of the AI/AN population. Provide a comparison of the actual accomplishments to the goals established for the project.

B. Budget Narrative: This narrative must describe the budget requested and match the scope of work described in the project narrative. The page limitation should not exceed five pages.

3. Submission Dates and Times

Applications must be submitted electronically through Grants.gov by 12:00 a.m., midnight Eastern Standard Time (EST) on the Application Deadline Date listed in the Key Dates section on page one of this announcement. Any application received after the application deadline will not be accepted for processing, nor will it be given further consideration for funding. The applicant will be notified by the DGM via email of this decision.

If technical challenges arise and assistance is required with the electronic application process, contact Grants.gov Customer Support via email to support@grants.gov or at (800) 518-4726. Customer Support is available to address questions 24 hours a day, 7 days a week (except on Federal holidays). If problems persist, contact Paul Gettys, DGM (Paul.Gettys@ihs.gov) at (301) 443-2114. Please be sure to contact Mr. Gettys at least ten days prior to the application deadline. Please do not contact the DGM until you have received a Grants.gov tracking number. In the event you are not able to obtain a tracking number, call the DGM as soon as possible.

If the applicant needs to submit a paper application instead of submitting electronically via Grants.gov, prior approval must be requested and obtained (see Section IV.6 below for additional information). The waiver must be documented in writing (emails are acceptable), before submitting a paper application. A copy of the written approval must be submitted with the hardcopy that is mailed to the DGM. Once the waiver request has been approved, the applicant will receive a confirmation of approval and the mailing address to submit the application. Paper applications that are submitted without a waiver from the Acting Director of DGM will not be reviewed or considered further for funding. The applicant will be notified via email of this decision by the Grants Management Officer of DGM. Paper applications must be received by the DGM no later than 5:00 p.m., EST, on the Application Deadline Date listed in the Key Dates section on page one of this announcement. Late applications will not be accepted for processing or considered for funding.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

If the applicant receives a waiver to submit paper application documents, they must follow the rules and timelines that are noted below. The applicant must seek assistance at least ten days prior to the Application Deadline Date listed in the Key Dates section on page one of this announcement.

Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and waiver from the agency must be obtained.

• If it is determined that a waiver is needed, the applicant must submit a request in writing (emails are acceptable) to GrantsPolicy@ihs.gov with a copy to Tammy.Bagley@ihs.gov. Please include a clear justification for the need to deviate from the standard electronic submission process.

• If the waiver is approved, the application should be sent directly to the DGM by the Application Deadline Date listed in the Key Dates section on page one of this announcement.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this Funding Announcement.

• After electronically submitting the application, the applicant will receive an automatic acknowledgment from Grants.gov that contains a Grants.gov tracking number. The DGM will download the application from Grants.gov and provide necessary copies to the appropriate agency officials. Neither the DGM nor the OCPS will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, please access it through http://fedgov.dnb.com/webform, or to expedite the process, call (866) 705-5711.

All HHS recipients are required by the Federal Funding Accountability and Transparency Act of 2006, as amended (“Transparency Act”), to report information on subawards. Accordingly, all IHS grantees must notify potential first-tier subrecipients that no entity may receive a first-tier subaward unless the entity has provided its DUNS number to the prime grantee organization. This requirement ensures the use of a universal identifier to enhance the quality of information available to the public pursuant to the “Transparency Act.”

System for Award Management (SAM)

Organizations that were not registered with Central Contractor Registration (CCR) and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS Grants Management, Grants Policy Web site: http://www.ihs.gov/NonMedicalPrograms/gogp/index.cfm?module=gogp_policy_topics.

V. Application Review Information

The instructions for preparing the application narrative also constitute the evaluation criteria for reviewing and scoring the application. Weights assigned to each section are noted in parentheses. The 10-page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. A minimum score of 75 points is required for funding. Points are assigned as follows:

1. Criteria

A. Introduction and Need for Assistance (30 points)

This section should include an understanding of the need for assistance and collaboration for any meetings or trainings. Applicant should demonstrate demographic and health status of the AI/AN people; geographic and social factors including availability of health providers and access to care; funding streams and available resources and partners that can support this work; and organizational structure of the Indian health system. Applicant should also describe the current and projected demand for AI/AN providers.

B. Project Objective(s), Work Plan and Approach (40 points)

This section should demonstrate the soundness and effectiveness of the applicant's proposal. Describe how the planning will be managed and the role of all organizations.

C. Program Evaluation (10 points)

This section should show how the progress on this project will be assessed and how the success of the recruitment program will be evaluated. Specifically, list and describe the outcomes by which the program will be evaluated. Identify the individuals responsible for evaluation of the annual meeting and their qualifications.

D. Organizational Capabilities, Key Personnel and Qualifications (10 points)

This section outlines the broader capacity of the organization to complete the project outlined in the work plan. It includes the identification of personnel responsible for completing tasks and the chain of responsibility for successful completion of the program outlined in the work plan.

(1) Describe the structure of the organization.

(2) Describe the ability of the organization to manage the proposed projects.

(3) List key personnel who will work on the projects and annual meeting. In the appendix, include position descriptions and resumes of key staff and their duties and experience. Describe who will be writing progress reports.

E. Categorical Budget and Budget Justification (10 points)

This section should provide a clear estimate of the program costs and justification for expenses for the cooperative agreement period. The budget and budget justification should be consistent with the tasks identified in the work plan. If indirect costs are claimed, indicate and apply the current negotiated rate to the budget. Include a copy of the rate agreement in the appendix. Categorical budget (Form SF 424A) should be completed for each of the budget periods requested.

Multi-Year Project Requirements (if applicable)

Projects requiring second, third, fourth, and/or fifth year must include a brief project narrative and budget (one additional page per year) addressing the developmental plans for each additional year of the project.

Appendix Items

• Work plan, logic model and/or time line for proposed objectives.

• Consultant or contractor proposed scope of work and letter of commitment (if applicable).

• Current Indirect Cost Agreement.

• Additional documents to support narrative (i.e. data tables, key news articles, etc.).

2. Review and Selection

Each application will be prescreened by the DGM staff for eligibility and completeness as outlined in the funding announcement. Incomplete applications and applications that are non-responsive to the eligibility criteria will not be referred to the ORC. Applicants will be notified by DGM, via email, to outline minor missing components (i.e., signature on the SF-424, audit documentation, key contact form) needed for an otherwise complete application. All missing documents must be sent to DGM on or before the due date listed in the email of notification of missing documents required.

To obtain a minimum score for funding by the ORC, applicants must address all program requirements and provide all required documentation. If an applicant receives less than a minimum score, it will be considered to be “Disapproved” and will be informed via email by the IHS Program Office of their application's deficiencies. A summary statement outlining the strengths and weaknesses of the application will be provided to each disapproved applicant. The summary statement will be sent to the Authorized Organizational Representative (AOR) that is identified on the face page (SF-424) of the application within 30 days of the completion of the Objective Review.

VI. Award Administration Information

1. Award Notices

The Notice of Award (NoA) is a legally binding document signed by the Grants Management Officer and serves as the official notification of the grant award. The NoA will be initiated by the DGM in the grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval (75) and were deemed to be disapproved by the ORC will receive an Executive Summary Statement from the IHS program office within 30 days of the conclusion of the ORC outlining the weaknesses and strengths of the submitted application. The IHS program office will also provide additional contact information as needed to address questions and concerns as well as provide technical assistance if desired.

Approved But Unfunded Applicants

Approved but unfunded applicants that met the minimum scoring range and were deemed by the ORC to be “Approved”, but were not funded due to lack of funding, will have their applications held by DGM for a period of one year. If additional funding becomes available during the course of FY 2013, the approved applications may be re-considered by the awarding program office for possible funding. The applicant will also receive an Executive Summary Statement from the IHS program office within 30 days of the conclusion of the ORC.

Note: Any correspondence other than the official NoA issued by an IHS Grants Management Official announcing to the Project Director that an award has been made to their organization is not an authorization to implement their program on behalf of IHS.

2. Administrative Requirements

Cooperative agreements are administered in accordance with the following regulations, policies, and Office of Management and Budget (OMB) cost principles:

A. The criteria as outlined in this Program Announcement.

B. Administrative Regulations for Grants:

• 45 CFR Part 92, Uniform Administrative Requirements for Grants and Cooperative Agreements to State, Local and Tribal Governments.

• 45 CFR Part 74, Uniform Administrative Requirements for Awards and Subawards to Institutions of Higher Education, Hospitals, and other Non-profit Organizations.

C. Grants Policy:

• HHS Grants Policy Statement, Revised 01/07.

D. Cost Principles:

• 2 CFR Part 225—Cost Principles for State, Local, and Indian Tribal Governments (OMB Circular A-87).

• 2 CFR Part 230—Cost Principles for Non-Profit Organizations (OMB Circular A-122).

E. Audit Requirements:

• OMB Circular A-133, Audits of States, Local Governments, and Non-profit Organizations.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) http://www.doi.gov/ibc/services/Indirect_Cost_Services/index.cfm. For questions regarding the indirect cost policy, please call (301) 443-5204 to request assistance.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Reports must be submitted electronically via GrantSolutions. Personnel responsible for submitting reports will be required to obtain a login and password for GrantSolutions. Please see the Agency Contacts list in section VII for the systems contact information.

The reporting requirements for this program are noted below.

A. Progress Reports

Program progress reports are required semiannually, within 30 days after the budget period ends. These reports must include a brief comparison of actual accomplishments to the goals established for the period, or, if applicable, provide sound justification for the lack of progress, and other pertinent information as required. A final report must be submitted within 90 days of expiration of the budget/project period.

B. Financial Reports

Federal Financial Report FFR (SF-425), Cash Transaction Reports are due 30 days after the close of every calendar quarter to the Division of Payment Management, HHS at: http://www.dpm.psc.gov. It is recommended that the applicant also send a copy of the FFR (SF-425) report to the Grants Management Specialist. Failure to submit timely reports may cause a disruption in timely payments to the applicant's organization.

Grantees are responsible and accountable for accurate information being reported on all required reports: the Progress Reports and FFR.

C. Federal Subaward Reporting System (FSRS)

This award may be subject to the Transparency Act subaward and executive compensation reporting requirements of 2 CFR Part 170.

The Transparency Act requires the OMB to establish a single searchable database, accessible to the public, with information on financial assistance awards made by Federal agencies. The Transparency Act also includes a requirement for recipients of Federal grants to report information about first-tier subawards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 subaward obligation dollar threshold met for any specific reporting period. Additionally, all new (discretionary) IHS awards (where the project period is made up of more than one budget period) and where: 1) the project period start date was October 1, 2010 or after and 2) the primary awardee will have a $25,000 subaward obligation dollar threshold during any specific reporting period will be required to address the FSRS reporting. For the full IHS award term implementing this requirement and additional award applicability information, visit the Grants Management Grants Policy Web site at: http://www.ihs.gov/NonMedicalPrograms/gogp/index.cfm?module=gogp_policy_topics.

Telecommunication for the hearing impaired is available at: TTY (301) 443-6394.

VII. Agency Contacts

1. Questions on the programmatic issues may be directed to: Susan Karol, MD, Chief Medical Officer, 801 Thompson Avenue, TMP Suite 400, Rockville, MD 20852, Phone: 301-443-1083, Fax: 301-443-4794, Email: Susan.Karol@ihs.gov.

2. Questions on grants management and fiscal matters may be directed to: Ms. Cherron Smith, Grants Management Specialist, 801 Thompson Avenue, TMP Suite 360, Rockville, MD 20852, Phone: 301-443-5204, Fax: 301-443-9602, Email: Cherron.Smith@ihs.gtov.

3. Questions on systems matters may be directed to: Paul Gettys, Grant Systems Coordinator, 801 Thompson Avenue, TMP Suite 360, Rockville, MD 20852, Phone: 301-443-2114; or the DGM main line 301-443-5204, Fax: 301-443-9602, email: Paul.Gettys@ihs.gov.

VIII. Other Information

The Public Health Service strongly encourages all cooperative agreement and contract recipients to provide a smoke-free workplace and promote the non-use of all tobacco products. In addition, Pub. L. 103-227, the Pro-Children Act of 1994, prohibits smoking in certain facilities (or in some cases, any portion of the facility) in which regular or routine education, library, day care, health care, or early childhood development services are provided to children. This is consistent with the HHS mission to protect and advance the physical and mental health of the American people.

Dated: March 13, 2013.
Yvette Roubideaux,
Director, Indian Health Service.

[FR Doc. 2013-07117 Filed 3-27-13; 8:45 am]

BILLING CODE 4165-16-P